DEPARTMENT OF JUSTICE

United States Parole Commission

[9P04091]

Public Announcement Pursuant to the Government in the Sunshine Act (Pub. L. 94-409) [5 U.S.C. Section 552b]

Agency Holding Meeting: Department of Justice, United States Parole Commission.

Time and Date: 10 a.m., Thursday, July 16, 2009.

Place: 5550 Friendship Blvd., Fourth Floor, Chevy Chase, MD 20815.

Status: Open.

Matters to be Considered: The following matters have been placed on the agenda for the open Parole Commission meeting:

1. Approval of Minutes of May 14, 2009 Quarterly Business Meeting.

2. Reports from the Chairman, Commissioners, Chief of Staff, and Section Administrators.

Agency Contact: Thomas W. Hutchison, Chief of Staff, United States Parole Commission, (301) 492-5990.

Dated: July 7, 2009.
Rockne J. Chickinell,
General Counsel, U.S. Parole Commission.

[FR Doc. E9-16472 Filed 7-13-09; 8:45 am]

BILLING CODE 4410-31-M